DEPARTMENT OF ENERGY

Federal Energy Regulatory Commission

[Docket No. ER02-454-002, et al.]

West Penn Power Company, et al.; Electric Rate and Corporate Regulation Filings

January 10, 2002.

Take notice that the following filings have been made with the Commission. Any comments should be submitted in accordance with Standard Paragraph E at the end of this notice.

1. West Penn Power Company, Monongahela Power Company, The Potomac Edison Company, West Penn Power Company, dba Allegheny Power

[Docket No.ER02-454-002]

Take notice that on December 31, 2001, West Penn Power Company, Monongahela Power Company, and The Potomac Edison Company, all doing business as Allegheny Power, filed an unexecuted Network Integrated Transmission Service Agreement and an unexecuted Network Operating Agreement for service to Allegheny Electric Cooperative, Inc. Allegheny Power requests an effective date of January 1, 2002.

Comment Date: January 22, 2002.

2. Oildale Energy LLC

[Docket No. EG02-44-000]

Take notice that on December 6, 2001, Oildale Energy LLC (Applicant) filed with the Federal Energy Regulatory Commission (Commission) an Application for Determination of Exempt Wholesale Generators Status pursuant to part 365 of the Commission's regulations and section 32 of the Public Utility Holding Company Act of 1935, as amended.

Comment Date: January 17, 2002. The Commission will limit its consideration of comments to those that concern the adequacy or accuracy of the application.

3. TXU Tradinghouse Company LP

[Docket No. EG02-49-000]

Take notice that on January 7, 2002, TXU Tradinghouse Company LP tendered for filing with the Federal Energy Regulatory Commission (Commission) an amendment of application for exempt wholesale generator status pursuant to part 365 of the Commission's regulations.

Comment Date: January 31, 2002. The Commission will limit its consideration of comments to those that concern the adequacy or accuracy of the application.

4. TXU DeCordova Company LP

[Docket No. EG02-50-000]

Take notice that on January 7, 2002, TXU DeCordova Company LP tendered for filing with the Federal Energy Regulatory Commission (Commission) an amendment of application for exempt wholesale generator status pursuant to part 365 of the Commission's regulations.

Comment Date: January 31, 2002. The Commission will limit its consideration of comments to those that concern the adequacy or accuracy of the application.

5. TXU Mountain Creek Company LP

[Docket No. EG02-51-000]

Take notice that on January 7, 2002, TXU Mountain Creek Company LP tendered for filing with the Federal Energy Regulatory Commission (Commission) an amendment of application for exempt wholesale generator status pursuant to part 365 of the Commission's regulations.

Comment Date: January 31, 2002. The Commission will limit its consideration of comments to those that concern the adequacy or accuracy of the application.

6. TXU Big Brown Company LP

[Docket No. EG02-52-000]

Take notice that on January 7, 2002, TXU Big Brown Company LP tendered for filing with the Federal Energy Regulatory Commission (Commission) an amendment of application for exempt wholesale generator status pursuant to part 365 of the Commission's regulations.

Comment Date: January 31, 2002. The Commission will limit its consideration of comments to those that concern the adequacy or accuracy of the application.

7. TXU Handley Company LP

[Docket No. EG02-53-000]

Take notice that on January 7, 2002, TXU Handley Company LP tendered for filing with the Federal Energy Regulatory Commission (Commission) an amendment of application for exempt wholesale generator status pursuant to part 365 of the Commission's regulations.

Comment Date: January 31, 2002. The Commission will limit its consideration of comments to those that concern the adequacy or accuracy of the application.

8. TXU Generation LP

[Docket No. EG02-54-000]

Take notice that on January 7, 2002, TXU Generation Company LP tendered for filing with the Federal Energy Regulatory Commission (Commission) an amendment of application for exempt wholesale generator status pursuant to part 365 of the Commission's regulations.

Comment Date: January 31, 2002. The commission will limit its consideration of comments to those that concern the adequacy or accuracy of the application.

9. Prairie Gen L.P.

[Docket No. EG02-64-000]

Take notice that on January 7, 2002, Prairie Gen L.P., 80 South 8th Street, Suite 4040, Minneapolis, Minnesota 55402, filed with the Federal Energy Regulatory Commission (Commission) an application for determination of exempt wholesale generator status pursuant to part 365 of the Commission's regulations.

The applicant is a limited partnership organized under the laws of the state of Minnesota.

The Facility consists of a gas-fired, simple-cycle turbine project located in St. Paul, Ramsey County, Minnesota (the Facility). The Facility will have a maximum net electrical capacity of 49MW. The point of delivery is the point at which the Facility interconnects with Xcel Energy's Highbridge substation.

The applicant will be engaged directly and exclusively in the business of owning an eligible facility and selling the electric energy from the Facility at wholesale.

Copies of the application have been served upon the Minnesota Public Utilities Commission, the “Affected State Commission,” and the Securities and Exchange Commission.

Comment Date: January 31, 2002. The Commission will limit its consideration of comments to those that concern the adequacy or accuracy of the application.

10. American Electric Power Service Corporation

[Docket No. ER02-141-001]

Take notice that on January 7, 2002, the American Electric Power Service Corporation (AEPSC) tendered for filing an Amendment to Filing in Docket ER02-141-000 to comply with FERC Order 614. AEPSC respectfully requests waiver of notice to permit ER02-141-000 to be made effective on or prior to September 20, 2001, as initially requested on October 15, 2001. AEPSC also respectively requests that the Commission accepts its request to terminate those Service Agreements identified in Attachment B and the assignments identified in Attachment C to be effective on, or prior to September 20, 2001, as initially requested in its filing on October 15, 2001.

A copy of the filing was served upon the Parties and the State Utility Regulatory Commissions of Arkansas, Indiana, Kentucky, Louisiana, Michigan, Ohio, Oklahoma, Tennessee, Texas, Virginia and West Virginia.

Comment Date: January 28, 2002.

11. West Penn Power Company (dba Allegheny Power)

[Docket No. ER02-288-001]

Take notice that on January 7, 2002, West Penn Power Company, dba Allegheny Power, filed with the Federal Energy Regulatory Commission (Commission) an Addendum to its Electric Service Agreement with Allegheny Electric Cooperative. An effective date for the Addendum is December 19, 2001 in accordance with the Commission's Order issued in Docket No. ER02-123-000, 97 FERC 61,274.

Copies of the filing have been provided to all parties of record.

Comment Date: January 28, 2002.

12. San Diego Gas & Electric Company

[Docket No. ER02-613-000]

Take notice that on December 26, 2001, San Diego Gas & Electric Company (SDG&E) tendered for filing its forecast of the changes it will pay under its Reliability Must Run (RMR) contracts with the California Independent System operator (ISO) for the year 2002, and proposed allocation for recovering those costs in rates.

SDG&E states that, under Section 5.2.8 of the ISO tariff, it is the Responsible Utility (RU) for payments to operators of RMR units within its service territory. SDG&E recovers its costs for those payments through a dedicated rate component, and requests an effective date of January 1, 2002 for the proposed rate.

SDG&E states that copies of the filing have been served on the California Independent System Operator and on the California Public Utilities Commission.

Comment Date: January 22, 2002.

13. Consolidated Water Power Company

[Docket No. ER02-695-000]

Take notice that Consolidated Water Power Company (CWP) tendered for filing with the Federal Energy Regulatory Commission (Commission) an umbrella service agreement with Wisconsin Public Service Corporation (WPSC) under CWP's market-based rates tariff, FERC Electric Rate Schedule No. 1. CWP states that it has served the Customer with a copy of this filing.

CWP requests that the umbrella service agreement be made effective on June 11, 2001.

Comment Date: January 24, 2002.

14. American Transmission Company LLC

[Docket No. ER02-702-000]

Take notice that on January 7, 2002, American Transmission Company LLC (ATCLLC) tendered for filing a Revised Service Agreement No. 90 with additions to the Generation-Transmission Interconnection Agreement between Wisconsin Power and Light Company and ATCLLC.

ATCLLC requests an effective date of January 1, 2002.

Comment Date: January 28, 2002.

15. Puget Sound Energy, Inc.

[Docket No. ER02-703-000]

Take notice that on January 7, 2002, Puget Sound Energy, Inc., as Transmission Provider, tendered for filing a service agreement for Long-Term Firm Point-To-Point Transmission Service with TransAlta Energy Marketing (US) Inc. (TransAlta), as Transmission Customer. A copy of the filing was served upon TransAlta.

Comment Date: January 28, 2002.

16. Entergy Services, Inc.

[Docket No. ER02-704-000]

Take notice that on January 7, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and City Water and Light Plant of the City of Jonesboro, Arkansas.

Comment Date: January 28, 2002.

17. Michigan Electric Transmission Company

[Docket No. ER02-705-000]

Take notice that on January 7, 2002, Michigan Electric Transmission Company (Michigan Transco) tendered for filing executed Service Agreements for Firm and Non-Firm Point-to-Point Transmission Service with each of the following: Detroit Edison Merchant Operation; Exelon Generation Company, LLC; FirstEnergy Solutions Corp.; and Virginia Electric & Power Company (jointly, Customers) pursuant to the Joint Open Access Transmission Service Tariff filed on February 22, 2001 by Michigan Transco and International Transmission Company (ITC). The Service Agreements being filed are Nos. 127 through 134 under that tariff.

Michigan Transco is requesting an effective date of January 1, 2002 for the Agreements. Copies of all filed agreements were served upon the Michigan Public Service Commission and ITC. And each Customer was served with its own Service Agreements.

Comment Date: January 28, 2002.

18. Alliant Energy Corporate Services, Inc.

[Docket No. ER02-706-000]

Take notice that on January 7, 2002, Alliant Energy Corporate Services, Inc., tendered for filing executed Service Agreements with NRG Power Marketing Inc., establishing NRG Power Marketing Inc., as a Short-Term Firm and Non-Firm Point-to-Point Transmission Customer under the terms of the Alliant Energy Corporate Services, Inc., Open Access Transmission Tariff.

Alliant Energy Corporate Services, Inc., requests an effective date of November 30, 2001, and accordingly, seeks waiver of the Commission's notice requirements. A copy of this filing has been served upon the Illinois Commerce Commission, the Minnesota Public Utilities Commission, the Iowa Department of Commerce, and the Public Service Commission of Wisconsin.

Comment Date: January 28, 2002.

19. Cinergy Services, Inc.

[Docket No. ER02-707-000]

Take notice that on January 7, 2002, Cinergy Services, Inc. (Cinergy) tendered for filing a Network Service Agreement, Network Operating Agreement, and Specifications for Network Integration Service under Cinergy's Open Access Transmission Tariff (OATT) entered into between Cinergy and Union Light, Heat and Power Company (Union). An application for Network Integration Service for Union has been included as an Exhibit to the Service Agreement under OATT. Copies of the filing were served upon Union.

Cinergy and Union are requesting an effective date of January 1, 2002.

Comment Date: January 28, 2002.

20. Central Illinois Light Company

[Docket No. ER02-708-000]

Take notice that on January 7, 2002, Central Illinois Light Company (CILCO) tendered for filing with the Federal Energy Regulatory Commission (Commission) a new tariff, the Ancillary Service Tariff, and revised transmission rates to be effective through Attachment O of the Midwest Independent System Operator's Open Access Transmission Tariff. Copies of the filing were served on all affected customers and the Illinois Commerce Commission.

CILCO requested an effective date of February 1, 2002.

Comment Date: January 28, 2002.

21. Generator Coalition, consisting of: Calcasieu Power, LLC; Calpine Central, L.P.; Exelon Generation Company, LLC; Mirant Americas Energy, Marketing, LP, Perryville Energy Partners, LLC, and Wrightsville Power Facility, LLC; Mississippi Delta Energy Agency, the Clarksdale Public Utilities, Commission, and the Public Service Commission of Yazoo City; Occidental Chemical Corporation, PLC II, LLC; Reliant Energy Power Generation, Inc.; TECO Power Services Corp.; Tenaska Frontier Partners, Ltd.; Williams Energy Marketing & Trading Company, Complainants, v. Entergy Services, Inc., Respondent

[Docket No. EL02-46-000]

Take notice that on January 8, 2002, The Generator Coalition, comprised of Calcasieu Power, LLC, Calpine Central, L.P., Exelon Generation Company, LLC, Mirant Americas Energy Marketing LP, Perryville Energy Partners, LLC, Wrightsville Power Facility, LLC, Mississippi Delta Energy Agency, the Clarksdale Public Utilities Commission, the Public Service Commission of Yazoo City, Occidental Chemical Corporation, PLC II, LLC, Reliant Energy Power Generation, Inc., TECO Power Services Corp., Tenaska Frontier Partners, Ltd., and Williams Energy Marketing & Trading Company, submitted a complaint against Entergy Services, Inc. (“Entergy”) requesting fast track processing by the Commission.

The Generator Coalition alleges that Entergy is charging independent generating facility customers unjust, unreasonable, and unduly discriminatory rates for energy imbalances resulting from generation under deliveries by overstating its incremental cost for supplying such balancing energy in rates under its Generator Imbalance Agreement (“GIA”). The Generator Coalition also alleges that Entergy refuses to credit non-offending generators with the penalties it collects under the GIA. Entergy is also preventing unaffiliated generators from self-supplying imbalance service or obtaining imbalance service from third parties, and thus forces generators into paying these inflated “incremental costs.” Further, The Generator Coalition contends that Entergy is violating the Standards of Conduct by allowing its wholesale merchant arm, the entity that competes with independent generators in the Entergy control area, to control numerous transmission-related functions under the guise of implementing Entergy's generator imbalance agreements. Entergy has also refused to include an appropriate RTO clause in its GIA, making clear that generators may, at their discretion, properly obtain generator imbalance services from an RTO-wide generator imbalance market that may be implemented by the Commission in the future. Lastly, the Generator Coalition contends that Entergy has failed to explain or justify the criteria it utilizes when it declares a “Low-Load Event” under the GIA.

Comment Date: January 28, 2002. Answers to the complaint shall also be filed on or before January 28, 2002.

22. Allegheny Power Service Corporation, on Behalf of Monongahela Power Company, The Potomac Edison Company, and West Penn Power Company (Allegheny Power)

[Docket No. ER02-713-000]

Take notice that on January 7, 2002, Allegheny Power Service Corporation on behalf of Monongahela Power Company, The Potomac Edison Company and West Penn Power Company (Allegheny Power), filed Service Agreement Nos. 369 and 370 to add Service Agreements with Old Dominion Electric Cooperative to Allegheny Power's Open Access Transmission Service Tariff which has been accepted for filing by the Federal Energy Regulatory Commission. The proposed effective date under the Service Agreements is January 1, 2002.

Copies of the filing have been provided to the Virginia State Corporation Commission and the West Virginia Public Service Commission.

Comment Date: January 28, 2002.

23. Wisconsin Public Service Corporation

[Docket No. ER02-714-000]

Take notice that on January 7, 2002, Wisconsin Public Service Corporation (WPSC) tendered for filing an amendment to its February 22, 1993 Agreement with the City of Marshfield concerning the ownership and operation of combustion turbine generation. The amendment implements a revision to the capacity rating of the West Marinette Unit.

Wisconsin Public Service Requests waiver of the Commission's regulations to permit the amendment to become effective on January 1, 2002.

Comment Date: January 28, 2002.

24. Northern Indiana Public Service Company

[Docket No. ER02-715-000]

Take notice that on January 7, 2002, Northern Indiana Public Service Company (Northern Indiana) filed a Service Agreement pursuant to its Wholesale Market-Based Rate Tariff with American Electric Power Service Corporation (AEP). Northern Indiana has requested an effective date of January 7, 2002.

Copies of this filing have been sent to AEP, the Indiana Utility Regulatory Commission, and the Indiana Office of Utility Consumer Counselor.

Comment Date: January 28, 2002.

25. Ameren Energy, Inc. on Behalf of Union Electric Company, D/b/a Ameren UE and Ameren Energy Generating Company

[Docket No. ER02-716-000]

Take notice that on January 7, 2002, Ameren Energy, Inc. (Ameren Energy), on behalf of Union Electric Company d/b/a Ameren UE and Ameren Energy Generating Company (collectively, the Ameren Parties), pursuant to section 205 of the FPA and the market rate authority granted to the Ameren Parties, submitted for filing to the Federal Energy Regulatory Commission (Commission) umbrealla power sales service agreements under the Ameren parties' market rate authorizations entered into with Mirant Americas Energy Marketing, LP.

Ameren Energy seeks Commission acceptance of these service agreements effective November 30, 2001.

Comment Date: January 28, 2002.

26. Southwest Power Pool, Inc.

[Docket No. ER02-709-000]

Take notice that on January 7, 2002, Southwest Power Pool, Inc. (SPP) tendered for filing an unexecuted service agreement with Power Resources Group, Inc. (PRG) for long-term firm point-to-point transmission service under the SPP Open Access Transmission Tariff. This agreement was filed at the direction of PRG.

SPP request an effective date of October 1, 2004 for this service agreement. A copy of this filing was served on representatives of PRG and other affected parties.

Comment Date: January 28, 2002.

27. Duke Energy Corporation

[Docket No. ER02-710-000]

Take notice that on January 7, 2002, Duke Energy Corporation, on behalf of Duke Electric Transmission, filed a revised service agreement (First Revised Service Agreement No. 170) with Rockingham Power L.L.C. in this proceeding.

Comment Date: January 28, 2002.

28. American Electric Power Service Corporation

[Docket No. ER02-711-000]

Take notice that on January 7, 2002, American Electric Power Service Corporation submitted for filing an unexecuted interconnection and Parallel Operation Agreement between Southwestern Electric Power Company (SWEPCO), Entergy Power Ventures, L.P., Northeast Texas Electric Cooperative, Inc. and EN Services, L.P. The agreement is pursuant to the AEP Companies' Open Access Transmission Service Tariff (OATT) that has been designated as the Operating Companies of the American Electric Power System FERC Electric Tariff Revised Volume No. 6, effective June 15, 2000.

SWEPCO requests an effective date of March 5, 2002. Copies of SWEPCO's filing have been served upon Entergy Power Ventures, LP, Northeast Texas Electric Cooperative, Inc., NE Services, L.P. and the Public Utility Commission of Texas.

Comment Date: January 28, 2002.

29. PJM Interconnection, L.L.C.

[Docket No. ER02-712-000]

Take notice that on January 7, 2002, PJM Interconnection, L.L.C. (PJM) submitted for filing amendments to the currently effective PJM Open Access Transmission Tariff (PJM Tariff) and the PJM Tariff that will implement PJM West as well as the currently effective Amended and Restated Operating Agreement of PJM Interconnection, L.L.C. (Operating Agreement) and the Operating Agreement that will implement PJM West to accommodate providers of last resort under the New Jersey Basic Generation Service (BGS) program and other similar state programs for the provision of provider of last resort services.

Copies of this filing were served upon all PJM members, Allegheny Power, and each state electric utility regulatory commission in the PJM control area and PJM West region.

Comment Date: January 28, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-1207 Filed 1-16-02; 8:45 am]

BILLING CODE 6717-01-P